DEPARTMENT OF AGRICULTURE

Cooperative State Research, Education, and Extension Service

Forest Research Advisory Council; Solicitation for Membership

AGENCY: Cooperative State Research, Education, and Extension Service.

ACTION: Notice of solicitation for membership to the Forestry Research Advisory Council.

SUMMARY: In accordance with the Federal Advisory Committee Act, the United States Department of Agriculture (USDA) announces solicitation for nominations to fill nine anticipated vacancies on the Forestry Research Advisory Council. The terms of nine members expired on December 31, 2004. Nominations for a three-year appointment for all nine positions are sought.

DATES: Nominations must be received on or before June 17, 2005.

ADDRESSES: The address for hand-delivered nominations or nominations submitted using an express mail or overnight courier service is: Office of the Forestry Research Advisory Council; Cooperative State Research, Education, and Extension Service; U.S. Department of Agriculture; Room 3213 Waterfront Center; 800 9th Street, SW., Washington, DC 20024; fax: (202) 401-1706. Nominations sent via the U.S. Postal Service must be sent to the following address: Cooperative State Research, Education, and Extension Service; U.S. Department of Agriculture; Office of the Forestry Research Advisory Council; Mail Stop 2210; 1400 Independence Avenue, SW., Washington, DC 20250-2210.

FOR FURTHER INFORMATION CONTACT: Catalino A. Blanche, Designated Federal Officer, Forestry Research Advisory Council; Office of the Forestry Research Advisory Council; Cooperative State Research, Education, and Extension Service; U.S. Department of Agriculture; Mail Stop 2210; 1400 Independence Avenue, SW., Washington, DC 20250-2210; telephone: (202) 401-4190; fax: (202) 401-1706; e-mail: cblanche@csrees.usda.gov, or contact Dr. Hao Tran, Staff Assistant, Research and Development, Forest Service, U.S. Department of Agriculture; telephone: (202) 205-1293; fax: (202) 205-1530; e-mail: htran@fs.fed.us.

SUPPLEMENTARY INFORMATION: The Forestry Research Advisory Council was established to provide advice to the Secretary of Agriculture on efficiently accomplishing the purposes of the McIntire-Stennis Act of 1962 (16 U.S.C. 582a, et seq.). The Council also provides advice related to the Forest Service research program, authorized by the Forest and Rangeland Resources Research Act of 1978 (Pub. L. 95-307, 92 Stat. 353, as amended, 16 U.S.C. 1600 (note)). The Council is composed of 20 voting members from the following membership categories:

• Federal and State agencies concerned with developing and utilizing the Nation's forest resources which includes the National Forest System and Forest and Range Experiment Stations leaders, Forest Service;

• The forest industries;

• The forestry schools of the State certified eligible institutions and State agricultural experiment stations; and

• Volunteer public groups concerned with forests and related natural resources.

Nominees will be carefully reviewed for their broad expertise, leadership, and relevancy to a membership category. Nominations for one individual who fits several of the categories, or for more than one person who fits one category will be accepted. Please indicate the specific membership category for each nominee.

Each nominee must complete Form AD-755, Advisory Committee Membership Background Information (which can be obtained from the contact persons above) and will be vetted before selection. Send the nominee's name, resume, and the completed Form AD-755 as noted above. Please note: All nominations received in response to the November 12, 2004 notice, do not have to resubmit nominations. Applicants are strongly encouraged to submit nominations via overnight mail or delivery service to ensure timely receipt by the USDA.

Done at Washington, DC this 16th day of May, 2005.
Rodney J. Brown,
Deputy Under Secretary, Research, Education, and Economics.

[FR Doc. 05-10211 Filed 5-20-05; 8:45 am]

BILLING CODE 3410-22-P